DEPARTMENT OF HOMELAND SECURITY

Coast Guard

33 CFR Part 100

[CGD07-03-032]

RIN 1625-AA08

Special Local Regulations; Child SMILE American Tour Fort Lauderdale Offshore Gran Prix, Fort Lauderdale Beach, FL

AGENCY: Coast Guard, DHS.

ACTION: Notice of proposed rulemaking.

SUMMARY: The Coast Guard proposes to create temporary special local regulations for the Child SMILE American Tour Fort Lauderdale Offshore Gran Prix held offshore of Fort Lauderdale Beach, Florida. These special local regulations restrict the movement of non-participating vessels operating in the vicinity of the race course located off Fort Lauderdale Beach, Florida. This rule is needed to provide for the safety of life on navigable waters during the event.

DATES: Comments and related material must reach the Coast Guard on or before September 26, 2003.

ADDRESSES: You may mail comments and related material to Coast Guard Group Miami, 100 MacArthur Causeway, Miami Beach, Florida 33139 attention of Chief D. Vaughn. Coast Guard Group Miami maintains the public docket for this rulemaking. Comments and material received from the public, as well as documents indicated in this preamble as being available in the docket, will become part of this docket and will be available for inspection or copying at Coast Guard Group Miami between 8 a.m. and 4 p.m., Monday through Friday, except Federal holidays.

FOR FURTHER INFORMATION CONTACT: BMC D. Vaughn, Coast Guard Group Miami, Florida at (305) 535-4317.

SUPPLEMENTARY INFORMATION:

Request for Comments

We encourage you to participate in this rulemaking by submitting comments and related material. If you do so, please include your name and address, identify the docket number for this rulemaking (CGD07-03-032), indicated the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

In order to allow the public the maximum time to comment on this proposed rule, we intend to make this proposed temporary final rule effective less than thirty days after it is published in the Federal Register. Due to the date of this event, we have reduced the public comment period to 15 days to allow us to process all public comments before deciding to publish a temporary final rule.

Public Meeting

We do not now plan to hold a public meeting. But you may submit a request for a meeting by writing to Coast Guard Group Miami at the address under ADDRESSES explaining why one would be beneficial. If we determine that one would aid this rulemaking, we will hold one at a time and place announced by a later notice in the Federal Register.

Background and Purpose

North Star Lady Inc., doing business as Over the Edge Motorsport Marketing and the H20 Performance Marketing Group, is sponsoring a high-speed power boat race that will take place on October 3 and 4 of 2003, in the Atlantic Ocean off Fort Lauderdale Beach, Florida. The race organizers anticipate 70 participants and 50 spectator watercraft for this event. The event will take place outside of the marked channel and will not interfere with commercial shipping. Recreational vessels and fishing vessels normally operate in the waters being used for the event but will be able to safety operate around the regulated areas with minimal delay. This rule is required to provide for the safety of life on navigable waters because of the inherent danger associated with a power boat race.

Discussion of Proposed Rule

This proposed rule would create two regulated areas, a race course and a viewing area. The race course would encompass all waters located shoreward of a line connecting the following positions located offshore of Fort Lauderdale Beach, Florida:

Beginning with Point 1: 26 08.228′ N-080 06.255′ W, thence to

Point 2: 26 08.231′ N-080 05.936′ W, thence to

Point 3: 26 08.178′ N-080 05.799′ W, thence to

Point 4: 26 08.055′ N-080 05.752′ W, thence to

Point 5: 26 07.565′ N-080 05.790′ W, thence to

Point 6: 26 07.022′ N-080 05.827′ W, thence to

Point 7: 26 06.780′ N-080 05.843′ W, thence to

Point 8: 26 06.671′ N-080 05.869′ W, thence to

Point 9: 26 06.602′ N-080 06.343′ W, then back to the original point.

The viewing area would encompass all waters located within the following positions located offshore of Fort Lauderdale Beach, Florida:

Beginning with Corner point 1: 26 06.738′ N-080 05.047′ W, thence to

Corner point 2: 26 06.738′ N-080 05.125′ W, thence to

Corner point 3: 26 08.100′ N-080 05.125′ W, thence to

Corner point 4: 26 08.100′ N-080 05.047′ W, then back to the original point.

All coordinates reference Datum NAD: 1983.

Non-participant vessels are prohibited from entering the race course unless authorized by the Coast Guard Patrol Commander. Spectator craft may remain in the designated viewing area but must follow the directions of the Coast Guard Patrol Commander.

Regulatory Evaluation

This proposed rule is not a “significant regulatory action” under section 3(f) of Executive Order 12866, Regulatory Planning and Review, and does not require an assessment of potential costs and benefits under section 6(a) (3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary. The event will take place outside of the marked channel and will not interfere with commercial shipping. Recreational vessels and fishing vessels normally operate in the waters being used for the event but will be able to safety operate around the regulated areas with minimal delay.

Small Entities

Under the Regulatory Flexibility Act (5 U.S.C. 601—612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following entities, some of which may be small entities: the owners or operators of vessels intending to transit or anchor in a portion of the Atlantic Ocean near Fort Lauderdale Beach, Florida from 11 a.m. until 4 p.m. on October 3 and 4, 2003.

This proposed rule would not have a significant economic impact on a substantial number of small entities for the following reasons because this rule would only be in effect for 5 hours over the course of two days, the race will take place outside of the marked channel and will not interfere with commercial shipping, and recreational vessels will be able to safely transit around the regulated areas with minimal delay.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520).

Federalism

A rule has implications for federalism under Executive Order 13132, Federalism, if it has a substantial direct effect on State or local governments and would either preempt state law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b) (2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this proposed rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34) (h), of the Instruction, from further environmental documentation.

Under figure 2-1, paragraph (34) (h), of the Instruction, an “Environmental Analysis Check List” and a “Categorical Exclusion Determination” are not required for this rule. Comments on this section will be considered before we make the final decision on whether to categorically exclude this rule from further environmental review.

List of Subjects in 33 CFR Part 100

Marine safety, Navigation (water), Reporting and recordkeeping requirements, Waterways.

For the reasons discussed in the preamble, the Coast Guard proposes to amend 33 CFR part 100, as follows:

PART 100—SAFETY OF LIVE ON NAVIGABLE WATERS

1. The authority citation for part 100 continues to read as follows:

Authority: 33 U.S.C. 1233; Department of Homeland Security Delegation No. 0170.1.

2. Add temporary § 100.35-T07-032 to read as follows:

§ 100.35-T07-032 Child SMILE American Tour Fort Lauderdale Offshore Gran Prix, Fort Lauderdale Beach, Florida.

(a) Regulated areas. (1) The race course encompasses all waters located inside of a line connecting the following positions located offshore of Fort Lauderdale Beach, Florida:

Beginning with Point 1: 26 08.228′ N-080 06.255′ W, thence to

Point 2: 26 08.231′ N-080 05.936′ W, thence to

Point 3: 26 08.178′ N-080 05.799′ W, thence to

Point 4: 26 08.055′ N-080 05.752′ W, thence to

Point 5: 26 07.565′ N-080 05.790′ W, thence to

Point 6: 26 07.022′ N-080 05.827′ W, thence to

Point 7: 26 06.780′ N-080 05.843′ W, thence to

Point 8: 26 06.671′ N-080 05.869′ W, thence to

Point 9: 26 06.602′ N-080 06.343′ W, then back to the original point.

All coordinates referenced use Datum: NAD 1983.

(2) The viewing area encompasses all waters located within the following positions located offshore of Fort Lauderdale Beach, Florida:

Beginning with Corner point 1: 26 06.738′ N-080 05.047′ W, thence to

Corner point 2: 26 06.738′ N-080 05.125′ W, thence to

Corner point 3: 26 08.100′ N-080 05.125′ W, thence to

Corner point 4: 26 08.100′ N-080 05.047′ W, then back to the original point.

All coordinates reference Datum NAD: 1983.

(b) Coast Guard Patrol Commander. The Coast Guard Patrol Commander is a commissioned, warrant, or petty officer of the Coast Guard who has been designated by Commanding Officer, Coast Guard Group Miami, Florida.

(c) Special local regulations. From 11 a.m. until 4 p.m. on October 3 and 4, 2003, non-participant vessels are prohibited from entering the race-course unless authorized by the Coast Guard Patrol Commander. Spectator craft may remain in the designated viewing area but must follow the directions of the Coast Guard Patrol Commander.

(d) Effective dates. This rule is effective from 11 a.m. on October 3, 2003 until 4 p.m. on October 4, 2003.

Dated: August 25, 2003.
H.E. Johnson, Jr.,
Rear Admiral, U.S. Coast Guard, Commander, Seventh Coast Guard District.

[FR Doc. 03-23186 Filed 9-10-03; 8:45 am]

BILLING CODE 4910-15-P